DEPARTMENT OF COMMERCE

Foreign-Trade Zones Board

[B-82-2013]

Foreign-Trade Zone (FTZ) 203—Moses Lake, Washington; Notification of Proposed Production Activity; AREVA Inc. (Fuel Rod Assemblies); Richland, Washington

The Moses Lake Public Corporation, grantee of FTZ 203, submitted a notification of proposed production activity to the FTZ Board on behalf of AREVA Inc. (AREVA), located in Richland, Washington. The notification conforming to the requirements of the regulations of the FTZ Board (15 CFR 400.22) was received on August 29, 2013.

The AREVA facility is located within Site 4 of FTZ 203. The facility is used for the processing of components into fuel rod assemblies. Pursuant to 15 CFR 400.14(b), FTZ activity would be limited to the specific foreign-status materials and components and specific finished products described in the submitted notification (as described below) and subsequently authorized by the FTZ Board.

Production under FTZ procedures could exempt AREVA from customs duty payments on the foreign status components used in export production. On its domestic sales, AREVA would be able to choose the duty rate during customs entry procedures that applies to fuel rod assemblies (duty rate—3.3%) for the foreign status inputs noted below. Customs duties also could possibly be deferred or reduced on foreign status production equipment.

The components and materials sourced from abroad include: Tie plates; channels; spacers; end caps; springs; top and bottom nozzles; cages; guide tubes; and tubes, bar stocks, wires and plates of zirconium (duty rate ranges from 3.3 to 3.7%).

Public comment is invited from interested parties. Submissions shall be addressed to the Board's Executive Secretary at the address below. The closing period for their receipt is October 23, 2013.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Elizabeth Whiteman at Elizabeth.Whiteman@trade.gov or (202) 482-0473.

Dated: August 30, 2013.
Andrew McGilvray,
Executive Secretary.

[FR Doc. 2013-22031 Filed 9-12-13; 8:45 am]

BILLING CODE 3510-DS-P